SECURITIES AND EXCHANGE COMMISSION

[Release No. 34-43251; File No. SR-CBOE-00-45]

Self-Regulatory Organizations; Notice of Filing and Immediate Effectiveness of Proposed Rule Change by the Chicago Board Options Exchange, Incorporated Amending its Code of Conduct to Elaborate Its Existing Policy Prohibiting Harassment and Other Improper Conduct

September 6, 2000.

Pursuant to Section 19(b)(1) of the Securities Exchange Act of 1934 (“Act”),¹ and Rule 19b-4 thereunder,² notice is hereby given that on September 6, 2000, the Chicago Board Options Exchange, Incorporated (“CBOE” or “Exchange”) filed with the Securities and Exchange Commission (“Commission”) the proposed rule change as described in Items I, II, and III below, which Items have been prepared by the CBOE. The Commission is publishing this notice to solicit comments on the proposed rule change from interested persons.

¹ 15 U.S.C. 78s(b)(1).

² 17 CFR 240.19b-4.

I. Self-Regulatory Organization's Statement of the Terms of Substance of the Proposed Rule Change

CBOE proposes to amend its Code of Conduct (“Employee Handbook”) to elaborate its existing policy prohibiting harassment and other improper conduct. The text of the proposed rule change is available at CBOE and at the Commission.

II. Self-Regulatory Organization's Statement of the Purpose of, and Statutory Basis for, the Proposed Rule Change

In its filing with the Commission, CBOE included statements concerning the purpose of and basis for the proposed rule change and discussed any comments it received on the proposed rule change. The text of these statements may be examined at the places specified in Item IV below. CBOE has prepared summaries, set forth in Sections A, B, and C below, of the most significant aspects of such statements.

A. Self-Regulatory Organization's Statement of the Purpose of, and Statutory Basis for, the Proposed Rule Change

1. Purpose

The purpose of the proposed change is to elaborate the Exchange's existing policy prohibiting harassment and other improper conduct by CBOE employees and certain non-employees including harassment directed against any member or other market participant for acting or seeking to act competitively, or in connection with a listing proposal made by such member or market participant. Although the Exchange believes that these prohibitions are encompassed within the Exchange's extensive Employee Handbook provisions dealing with harassment and other improper employee conduct, the Exchange seeks to provide expressly in its Employee Handbook that such specific conduct is prohibited and against CBOE policy. The Exchange believes that codifying the policy in the Employee Handbook will serve to highlight the policy to CBOE employees and non-employees and reinforce the Exchange's prohibition on any such anti-competitive conduct.

Specifically, the added language will explicitly provide that it is against CBOE policy for any employee, officer, director, committee member, and other official or agent of CBOE to harass, threaten, intimidate, or retaliate against any member of CBOE or any other market participant for acting, or seeking to act, competitively, or because of a listing proposal made by such member or market participant to any exchange or other market, or such member's or market participant's advocacy or proposal concerning listing or trading on any exchange or market, or such member or market participant making markets in or trading any option on any exchange or other market.

This change compliments a recently adopted rule change submitted by the Exchange concerning a similar prohibition on COBE members. ³

³ See Securities Exchange Act Release No. 43227 (August 30, 2000).

2. Statutory Basis

The Exchange believes that, because the proposed rule change will elaborate the Exchange's long-standing policy regarding the Exchange's prohibition against harassment and other similar practices, by employees and other non-members, the proposed change is consistent with Section 6 of the Act,⁴ in general, furthers the objectives of Section 6(b)(5) ⁷ in particular, in that it is designed to prevent fraudulent and manipulative acts and practices and to promote just and equitable principles of trade.

⁴ 15 U.S.C. 78f.

⁵ 15 U.S.C. 78f(b)(5).

B. Self-Regulatory Organization's Statement on Burden on Competition

The CBOE does not believe that the proposed change will impose any burden on competition not necessary or appropriate in furtherance of the purposes of the Act.

C. Self-Regulatory Organization's Statement on Comments on the Proposed Rule Change Received from Members, Participants, or Others

The Exchange has neither solicited nor received written comments with respect to the proposed change.

III. Date of Effectiveness of the Proposed Rule Change and Timing for Commission Action

The foregoing proposed rule change is concerned solely with the administration of the Exchange. Therefore, the proposed rule change has become effective pursuant to Section 19(b)(3)(A)(iii) of the Act ⁶ and Rule 19b-4(f)(3) thereunder. ⁷ At any time within 60 days of the filing of such proposed rule change, the Commission may summarily abrogate such rule change if it appears to the Commission that such action is necessary or appropriate in the public interest, for the protection of investors, or otherwise in furtherance of the purposes of the Act.

⁶ 15 U.S.C. 78s(b)(3)(A)(iii).

⁷ 17 CFR 240.19b-4(f)(3).

IV. Solicitation of Comments

Interested persons are invited to submit written data, views and arguments concerning the foregoing, including whether the proposed whether the proposed change is consistent with the Act. Persons making written submissions should file six copies thereof with the Secretary, Securities and Exchange Commission, 450 Fifth Street, NW., Washington, DC 20549-0609. Copies of the submission, all subsequent amendments, all written statements with respect to the proposed rule change that are file with the Commission, and all written communications relating to the proposed rule change between the Commission and any person, other than those that may be withheld from the public in accordance with the provisions of 5 U.S.C. 552, will be available for inspection and copying in the Commission's Public Reference Room. Copies of such filing will also be available for inspection and copying at the principal office of CBOE. All submissions should refer to File No. SR-CBOE-00-45 and should be submitted by October 5, 2000.

For the Commission, by the Division of Market Regulataion, pursuant to delegated authority.⁸
⁸ 17 CFR 200.30-(a)(12).
Margaret H. McFarland,
Deputy Secretary.

[FR Doc. 00-23612 Filed 9-13-00; 8:45 am]

BILLING CODE 8010-01-M